DEPARTMENT OF AGRICULTURE

Rural Business-Cooperative Service

[Docket No. RBS-20-BUSINESS-0036]

Notice of Solicitation for Inviting Applications for the Rural Microentrepreneur Assistance Program for Fiscal Year 2021

AGENCY: Rural Business-Cooperative Service, USDA.

ACTION: Notice.

SUMMARY: This Notice is to invite applications for loans and grants under the Rural Microentrepreneur Assistance Program (RMAP) for fiscal year (FY) 2021, subject to the availability of funding. This notice is being issued in order to allow applicants sufficient time to leverage financing, prepare and submit their applications, and give the Agency time to process applications within FY 2021. Successful applications will be selected by the Agency for funding and subsequently awarded to the extent that funding may ultimately be made available through appropriations. RMAP provides the following types of support: Loan only, combination loan and technical assistance grant, and subsequent technical assistance grants to Microenterprise Development Organizations (MDO). An announcement on the website at https://www.rd.usda.gov/newsroom/notices-solicitation-applications-nosas will identify the amount of funding received in the appropriations. All applicants are responsible for any expenses incurred in developing their applications or costs incurred prior to the obligation date.

DATES: The deadline for completed applications to be received in the USDA Rural Development State Office for quarterly funding competitions is no later than 4:30 p.m. (local time) on: First Quarter, September 30, 2020; Second Quarter, December 31, 2020; Third Quarter, March 31, 2021 and Fourth Quarter, June 30, 2021.

The subsequent microlender technical assistance grant (existing MDOs with a microentrepreneur revolving loan fund) will be made, non-competitively, based on the microlender's microlending activity and availability of funds. The Agency will use the microlender's outstanding balance of microloans as of June 30, 2021 to determine their microlender technical assistance grant award for FY 2021 from available funds. Only MDOs that are eligible for an annual grant in compliance with 7 CFR 4280.313(a) may apply.

ADDRESSES: Applications must be submitted to the USDA Rural Development State Office for the State where the Project is located. Applications may be submitted in paper or electronic format to the appropriate Rural Development State Office and must be received by 4:30 p.m. local time on the deadline date(s). Applicants are encouraged to contact their respective State Office for an email contact to submit an electronic application prior to the submission deadline date(s). A list of the USDA Rural Development State Office contacts can be found at: http://www.rd.usda.gov/contact-us/state-offices.

FOR FURTHER INFORMATION CONTACT: Shamika Johnson at (202) 720-1495, shamika.johnson@usda.gov or David Chestnut at (202) 692-5233, david.chestnut@usda.gov, Program Management Division, Business Programs, Rural Business-Cooperative Service, U.S. Department of Agriculture, 1400 Independence Avenue SW, MS 3226, Room 4202—South, Washington, DC 20250-3226, or call (202) 720-1400. For further information on this notice, please contact the USDA Rural Development State Office in the State in which the applicant's headquarters is located. A list of Rural Development State Office contacts is provided at the following link: http://www.rd.usda.gov/contact-us/state-offices.

Overview

Solicitation Opportunity Title: Rural Microentrepreneur Assistance Program.

Announcement Type: Initial Solicitation Announcement.

Catalog of Federal Domestic Assistance Number (CFDA): 10.870.

Dates: The deadline for completed applications to be received in the USDA Rural Development State Office for quarterly funding competitions is no later than 4:30 p.m. (local time) on: First Quarter, September 30, 2020; Second Quarter, December 31, 2020; Third Quarter, March 31, 2021 and Fourth Quarter, June 30, 2021.

I. Funding Opportunity Description

A. Purpose of the Program. The purpose of RMAP is to support the development and ongoing success of rural microentrepreneurs and microenterprises as defined in 7 CFR 4280.302.

B. Statutory Authority. RMAP is authorized by Section 379E of the Consolidated Farm and Rural Development Act (7 U.S.C. 2008s). Regulations are contained in 7 CFR part 4280, subpart D. Assistance provided to rural areas under this program may include the provision of loans and grants to rural MDOs for the provision of microloans to rural microenterprises and microentrepreneurs; provision of business-based training and technical assistance to rural microborrowers and potential microborrowers; and other such activities as deemed appropriate by the Secretary to ensure the development and ongoing success of rural microenterprises. Awards are made on a competitive basis using specific selection criteria contained in 7 CFR part 4280, subpart D.

C. Definition of Terms. The definitions applicable to this Notice are published at 7 CFR 4280.302.

D. Application Awards. The Agency will review, evaluate, and score applications received in response to this Notice based on the provisions found in 7 CFR part 4280, subpart D, and as indicated in this Notice. However, the Agency advises all interested parties that the applicant bears the burden in preparing and submitting an application in response to this Notice whether or not funding is appropriated for this program in FY 2021. Information required to be in the application is specified in 7 CFR 4280.315. For entities applying for program loan funds to become an RMAP microlender only, the following items are required: (1) Form RD 1910-11, “Applicant Certification Federal Collection Policies for Consumer or Commercial Debts;” (2) Demonstration that the applicant is eligible to apply for participation in this program; (3) Certification by the applicant that it cannot obtain sufficient credit elsewhere to fund the activities called for under this program with similar rates and terms;

Subsequent annual microlender technical assistance grants are subject to funding availability, in accordance with 7 CFR 4280.313(b)(2). Awards will be determined non-competitively based on Agency appropriations for the fiscal year. The MDO must submit a prescribed worksheet, listing the outstanding balance of their microloans and unexpended grant funds as of the date of their request and a letter certifying that their organization still meets all the requirements set forth in 7 CFR part 4280, subpart D, and that no significant changes have occurred within the last year that would affect its ability to carry out the MDO functions. In addition, all MDOs who request Subsequent Annual Microlender Technical Assistance Grants must complete their reporting into the Lenders Interactive Network Connection (LINC) for the Federal fiscal quarter ending June 30, 2021. The deadline for reporting into LINC and requesting a TA grant is no later than 4:30 p.m. (local time) on July 31, 2021.

II. Award Information

Type of Awards: Loans and/or Grants.

Fiscal Year Funds: FY 2021.

Available Funds. Anyone interested in submitting an application for funding under these Programs are encouraged to consult the Rural Development Notices of Solicitation of Applications website at http://www.rd.usda.gov/newsroom/notices-solicitation-applications-nosas.

Maximum Award: The Agency anticipates the following maximum amounts per award: Loans—$500,000; Grants—$100,000.

Application Dates: Funding competitions will be held for applications received no later than: First Quarter, September 30, 2020; Second Quarter, December 31, 2020; Third Quarter, March 31, 2021 and Fourth Quarter, June 30, 2021.

III. Eligibility Information

A. Eligible Applicants. To be eligible for this program, the applicant must meet the eligibility requirements in 7 CFR 4280.310. All applications must meet the definition of “rural” or “rural area” as described in 7 U.S.C. 1991(a)(13) of the Consolidated Farm and Rural Development Act (Pub. L. 115-334), as amended. The Further Consolidated Appropriations Act, 2020 (Pub. L. 116-94), sec. 740 designates funding for projects in Persistent Poverty counties. Persistent Poverty counties as defined in sec. 740 is “any county that has had 20 percent or more of its population living in poverty over the past 30 years, as measured by the 1990 and 2000 decennial censuses, and 2007-2011 American Community Survey 5-year average, or any territory or possession of the United States”. Another provision in sec. 740 expands the eligible population in Persistent Poverty counties to include any county seat of such a persistent poverty county that has a population that does not exceed the authorized population limit by more than 10 percent.

In addition to the requirements in 7 CFR 4280.310, applicants must not be delinquent on any Federal debt or otherwise disqualified from participation in this program to be eligible to apply. All other restrictions in this Notice will apply.

The Agency requires sufficient information to make an eligibility determination through application materials. Potential microlenders must provide evidence that it: (1) Has demonstrated experience in the management of a revolving loan fund; or (2) Certifies that it, or its employees, have received education and training from a qualified microenterprise development training entity so that the applicant has the capacity to manage such a revolving loan fund; or (3) Is actively and successfully participating as an intermediary lender in good standing under the U.S. Small Business Administration (SBA) Microloan Program or other similar loan programs as determined by the Administrator. Applicants must also provide an attorney's opinion regarding the potential microlender's legal status and its ability to enter into program transactions at the time of initial entry into the program. Subsequent to acceptance into the program, an attorney's opinion will not be required unless the Agency determines significant changes to the microlender have occurred.

B. Cost Sharing or Matching. The Federal share of the eligible project cost of a microborrower's project funded under this Notice shall not exceed 75 percent. The cost share requirement shall be met by the microlender in accordance with the requirements specified in 7 CFR 4280.311(d).

The MDO is required to provide a match of not less than 15 percent of the total amount of the grant in the form of matching funds, indirect costs, or in-kind goods or services.

C. Other Eligibility Requirements. Applications will only be accepted from eligible MDOs and will be awarded a program score in compliance with 7 CFR 4280.316. Eligible MDOs must score a minimum of 70 points out of 100 available points to be considered to receive an award. Awards for each Federal fiscal quarter will be based on ranking with the highest-ranking applications being funded first, subject to available funding.

None of the funds made available by this or any other Act may be used to enter into a contract, memorandum of understanding, or cooperative agreement with, make a grant to, or provide a loan or loan guarantee to, any corporation that has any unpaid Federal tax liability that has been assessed, for which all judicial and administrative remedies have been exhausted or have lapsed, and that is not being paid in a timely manner pursuant to an agreement with the authority responsible for collecting the tax liability, where the awarding agency is aware of the unpaid tax liability, unless a Federal agency has considered suspension or debarment of the corporation and has made a determination that this further action is not necessary to protect the interests of the Government.

None of the funds made available by this or any other Act may be used to enter into a contract, memorandum of understanding, or cooperative agreement with, make a grant to, or provide a loan or loan guarantee to, any corporation that was convicted of a felony criminal violation under any Federal law within the preceding 24 months, where the awarding agency is aware of the conviction, unless a Federal agency has considered suspension or debarment of the corporation and has made a determination that this further action is not necessary to protect the interests of the Government.

D. Completeness Eligibility. All applications must be submitted as a complete application, in one package. Applications will not be considered for funding if they do not provide sufficient information to determine eligibility or are unbound, not received in one package, are missing required elements or are otherwise not suitable for evaluation. Such applications will be withdrawn with notification provided to the applicant of such action.

IV. Fiscal Year 2021 Application and Submission Information

A. Requesting an Application Package: For further information, entities wishing to apply for assistance should contact the Rural Development State Office as identified in the ADDRESSES section of this Notice to obtain copies of the application package. Applicants must submit an original complete application to the USDA Rural Development State Office in the State where the applicant's project is located.

An MDO may submit an initial application for a loan with a microlender technical assistance grant, or an initial or subsequent loan-only (without a microlender technical assistance grant). Loan applications may be submitted in paper or electronic format to the appropriate Rural Development State Office and must be received by 4:30 p.m. local time on the deadline date(s). Applicants are encouraged to contact their respective State Office for an email contact to submit an electronic application prior to the submission deadline date(s). Loan applications must be organized in the same order set forth in 7 CFR 4280.315. To ensure timely delivery, applicants are strongly encouraged to submit their paper applications using an overnight, express, or parcel delivery service.

B. Content and Form of Submission: An application must contain all of the required elements outlined in 7 CFR 4280.315. Each application must address the applicable scoring criteria presented in 7 CFR 4280.316 for the type of funding being requested.

C. Submission Dates and Times: The original complete application for quarterly funding competitions must be received by the USDA Rural Development State Office no later than 4:30 p.m. (local time) on: First Quarter, September 30, 2020; Second Quarter, December 31, 2020; Third Quarter, March 31, 2021 and Fourth Quarter, June 30, 2021, regardless of the postmark date, in order to be considered for funds available in that Federal 2021 fiscal quarter.

Unless withdrawn by the applicant, completed applications that receive a score of at least 70 (the minimum required to be considered for funding), but have not yet been funded, will be retained by the Agency for consideration in subsequent reviews through a total of four consecutive quarterly reviews. Applications that remain unfunded after four quarterly reviews, including the initial quarter in which the application was competed, will not be considered further for an award. The applicant must submit a new application at that time if it desires further funding consideration.

D. Explanation of Dates: Applications must be in the USDA Rural Development State Office by the deadline dates and times as indicated above. If the due date falls on a Saturday, Sunday, or Federal holiday, the application is due the next business day.

V. Application Review Information

A. Criteria. All eligible and complete applications will be evaluated and scored based on the selection criteria and weights contained in 7 CFR part 4280, subpart D. Failure to address any one of the criteria by the application deadline will result in the application being determined ineligible and the application will not be considered for funding. An application must receive at least 70 points to be considered for funding in the quarter in which it is scored and competing.

B. Review and Selection Process. The State Offices will review applications to determine if they are eligible for assistance based on requirements contained in 7 CFR part 4280, subpart D. If determined eligible, the application will be submitted to the National Office, where it will be reviewed and prioritized by ranking in highest to lowest score order with each application competing in that quarter. All eligible applications will be funded until funds have been exhausted for each funding cycle. Funding of projects is subject to the MDO's satisfactory submission of the additional items required by that subpart and the USDA Rural Development Letter of Conditions.

VI. Award Administration Information

A. Award Notices. Successful applicants will receive notification for funding from the USDA Rural Development State Office. Applicants must comply with all applicable statutes and regulations before the award will be approved. Provided the application and eligibility requirements have not changed, an application not selected will be reconsidered for three subsequent funding competitions for a total of four competitions. If an application is withdrawn, it can be resubmitted and will be evaluated as a new application. Unsuccessful applications after four quarterly competitions will receive notification by mail, detailing why the application was unsuccessful.

B. Administrative and National Policy Requirements. Additional requirements that apply to MDOs selected for this program can be found in 7 CFR part 4280, subpart D. The USDA and the Agency have adopted the USDA grant regulations at 2 CFR chapter IV. This regulation incorporates the new Office of Management and Budget (OMB) regulations 2 CFR 200 and 2 CFR 400.1 to 400.18 for monitoring and servicing RMAP funding.

C. Reporting. In addition to any reports required by 2 CFR 200 and 2 CFR 400.1 to 400.18, the MDO must provide reports as required by 7 CFR part 4280, subpart D. MDOs must collect and maintain data provided by Ultimate Recipients on race, sex, and national origin and ensure Ultimate Recipients collect and maintain this data. Race and ethnicity data will be collected in accordance with OMB Federal Register notice, “Revisions to the Standards for the Classification of Federal Data on Race and Ethnicity” (62 FR 58782), October 30, 1997. Sex data will be collected in accordance with Title IX of the Education Amendments of 1972. These items should not be submitted with the application but should be available upon request by the Agency.

The applicant and the Ultimate Recipient must comply with Title VI of the Civil Rights Act of 1964, Title IX of the Education Amendments of 1972, Americans with Disabilities Act (ADA), Section 504 of the Rehabilitation Act of 1973, Age Discrimination Act of 1975, Executive Order 12250, Executive Order 13166 Limited English Proficiency (LEP), and 7 CFR part 1901, subpart E.

VII. Agency Contacts

For general questions about this Notice, please contact your USDA Rural Development State Office as provided in the ADDRESSES section of this Notice.

VIII. Paperwork Reduction Act

In accordance with the Paperwork Reduction Act of 1995, the information collection requirements associated with the Rural Microentrepreneur Assistance Program, as covered in this Notice, has been approved by the Office of Management and Budget (OMB) under OMB Control Number 0570-0062.

IX. Federal Funding Accountability and Transparency Act

To be eligible (unless you are exempted under 2 CFR 25.110(b), (c) or (d)), you are required to:

(a) Provide a valid DUNS number in your application, which can be obtained at no cost via a toll-free request line at (866) 705-5711;

(b) Register in SAM before submitting your application. You may register in SAM at no cost at https://www.sam.gov/SAM/. You must provide your SAM CAGE Code and expiration date. When registering in SAM, you must indicate you are applying for a Federal financial assistance project or program or are currently the recipient of funding under any Federal financial assistance project or program; and

(c) The SAM registration must remain active with current information at all times while the Agency is considering an application or while a Federal grant award or loan is active. To maintain the registration in the SAM database the applicant must review and update the information in the SAM database annually from date of initial registration or from the date of the last update. The applicant must ensure that the information in the database is current, accurate, and complete. Applicants must ensure they complete the Financial Assistance General Certifications and Representations in SAM.

• If you have not fully complied with all applicable DUNS and SAM requirements, the Agency may determine that the applicant is not qualified to receive a Federal award and the Agency may use that determination as a basis for making an award to another applicant. In accordance with OMB Memoranda M-20-11 and M-20-26, the Agency can accept an application without an active SAM registration. However, the registration must be completed before an award is made.

X. Nondiscrimination Statement

In accordance with Federal civil rights law and U.S. Department of Agriculture (USDA) civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at http://www.ascr.usda.gov/complaint_filing_cust.html and at any USDA office or write a letter addressed to USDA and provide in the letter all the information requested in the form. To request a copy of the complaint form, call (866) 632-9992.

Submit your completed form or letter to USDA by:

(1) Mail: U.S. Department of Agriculture, Office of the Assistant Secretary for Civil Rights, 1400 Independence Avenue SW, Washington, DC 20250-9410;

(2) Fax: (202) 690-7442; or

(3) Email: program.intake@usda.gov.

Rebeckah Adcock,
Administrator, Rural Business-Cooperative Service.

[FR Doc. 2020-27627 Filed 12-15-20; 8:45 am]

BILLING CODE 3410-XY-P